FEDERAL DEPOSIT INSURANCE CORPORATION

Agency Information Collection Activities: Submission for OMB Review; Comment Request (3064-0018 & -0137)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995 (44 U.S.C. 3501, et seq.). On October 27, 2016, (81 FR 74802), the FDIC requested comment for 60 days on a proposal to renew the information collections described below. No comments were received. The FDIC hereby gives notice of its plan to submit to OMB a request to approve the renewal of these collections, and again invites comment on this renewal.

DATES: Comments must be submitted on or before February 10, 2017.

ADDRESSES: Interested parties are invited to submit written comments to the FDIC by any of the following methods:

• http://www.FDIC.gov/regulations/laws/federal/notices.html.

• Email: comments@fdic.gov. Include the name and number of the collection in the subject line of the message.

• Mail: Jennifer Jones (202-898-6768), Counsel, MB-3105, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Jennifer Jones, at the FDIC address above.

SUPPLEMENTARY INFORMATION: Proposal to renew the following currently-approved collections of information:

1. Title: Application Pursuant to Section 19 of the Federal Deposit Insurance Act.

OMB Number: 3064-0018.

Form Number: FDIC 6710/07.

Affected Public: Insured Depository Institutions.

Burden Estimate
| Type of burden | Estimated number of respondents | Estimated number of responses | Estimated time per response | Frequency of response | Total annual estimated burden (hours)
APPLICATION PURSUANT TO SECTION 19 OF THE FEDERAL DEPOSIT INSURANCE ACT | Reporting | 75 | 1 | 16 | On Occasion | 1,200
TOTAL HOURLY BURDEN |  |  |  |  |  | 1,200

General Description of Collection: Section 19 of the Federal Deposit Insurance Act (FDI), 12 U.S.C. Section 1829, requires the FDIC's consent prior to any participation in the affairs of an insured depository institution by a person who has been convicted of crimes involving dishonesty or breach of trust, and included drug-related convictions. To obtain that consent, an insured depository institution must submit an application to the FDIC for approval on Form FDIC 6710/07.

2. Title: Interagency Guidance on Asset Securitization Activities

OMB Number: 3064-0137.

Form Number: None.

Affected Public: Insured State Nonmember Banks and Savings Associations.

Burden Estimate
| Type of burden | Estimated number of respondents | Estimated number of responses | Estimated time per response | Frequency of response | Total annual estimated burden (hours)
Asset Securitization Policies—New Entrant | Recordkeeping | 1 | 1 | 32 | On Occasion | 32
Asset Securitization Policies—Upgrades of Policies | Recordkeeping | 2 | 1 | 3 | On Occasion | 6
Documentation of Fair Value | Recordkeeping | 22 | 1 | 4 | On Occasion | 88
MIS Improvements—New Entrant | Recordkeeping | 1 | 1 | 21 | On Occasion | 21
MIS Improvements—Systems Upgrades | Recordkeeping | 2 | 1 | 5 | On Occasion | 10
TOTAL HOURLY BURDEN |  |  |  |  |  | 157

General Description of Collection: The Interagency Guidance on Asset Securitization Activities informs bankers and examiners of safe and sound practices regarding asset securitization. The information collections contained in the Interagency Guidance are needed by institutions to manage their asset securitization activities in a safe and sound manner. Bank management uses this information as the basis for the safe and sound operation of their asset securitization activities and to ensure that they minimize operational risk in these activities.

Request for Comment

Comments are invited on: (a) Whether the collections of information are necessary for the proper performance of the FDIC's functions, including whether the information has practical utility; (b) the accuracy of the estimates of the burden of the collections of information, including the validity of the methodology and assumptions used; (c) ways to enhance the quality, utility, and clarity of the information to be collected; and (d) ways to minimize the burden of the collections of information on respondents, including through the use of automated collection techniques or other forms of information technology. All comments will become a matter of public record.

Dated at Washington, DC, this 5th day of January 2017.
Federal Deposit Insurance Corporation.
Valerie J. Best,
Assistant Executive Secretary.

[FR Doc. 2017-00362 Filed 1-10-17; 8:45 am]

BILLING CODE 6714-01-P